OFFICE OF PERSONNEL MANAGEMENT

[OMB Control No. 3206-0156 (STANDARD FORMS 2800 AND 2800A)]

Submission for OMB Review; Request for Review of a Revised Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for review of a revised information collection. This information collection, “Application for Death Benefits under the Civil Service Retirement System (CSRS)” (OMB Control No. 3206-0156; form SF 2800), is needed to collect information so that OPM can pay death benefits to the survivors of Federal employees and annuitants. “Documentation and Elections in Support of Application for Death Benefits When Deceased Was an Employee at the Time of Death” (OMB Control No. 3206-0156; form SF 2800A), is needed for deaths in service so that survivors can make the needed elections regarding military service. Every applicant who uses SF 2800 should read SF 2800-1, Applying for Death Benefits under CSRS. This brief booklet provides the general information applicants need to understand what they are applying for.

Approximately 68,000 SF 2800's are processed annually. The completion time for this form is approximately 45 minutes. An annual burden of 51,000 hours is estimated. Approximately 6,800 applicants will use SF 2800A annually. Each form takes approximately 45 minutes to complete. An annual estimated burden of 5,100 hours is estimated. The total annual burden for this information collection is 56,100 hours.

For copies of this proposal, contact Cyrus S. Benson by telephone (202) 606-4808, FAX (202) 606-0910 or by e-mail to Cyrus.Benson@opm.gov. Please include a mailing address with your request.

DATES: Comments on this proposal should be received within 30 calendar days from the date of this publication.

ADDRESSES: Send or deliver comments to:

James K. Freiert, Deputy Assistant Director, Retirement Services Program, Center for Retirement and Insurance Services, U.S. Office of Personnel Management, 1900 E Street, NW., Room 3305, Washington, DC 20415-3500; and

Alexander Hunt, OPM Desk Officer, Office of Information & Regulatory Affairs, Office of Management and Budget, New Executive Office Building, 725 17th Street, NW., Room 10235, Washington, DC 20503.

FOR FURTHER INFORMATION CONTACT: For information regarding administrative coordination contact:

Cyrus S. Benson, Team Leader, Publications Team, RIS Support Services/Support Group, U.S. Office of Personnel Management, 1900 E Street, NW., Room 4H28, Washington, DC 20415. (202) 606-0623.

Kathie Ann Whipple,
Acting Director, U.S. Office of Personnel Management.

[FR Doc. E9-6927 Filed 3-27-09; 8:45 am]

BILLING CODE 6325-38-P